DEPARTMENT OF ENERGY

Federal Energy Regulatory Commission

[Project No. 8417-004]

Sparhawk, LLC; Notice of Comment Period Extension

On November 27, 2018, the Commission issued a notice setting December 27, 2019, as the end of the formal period to file comments, motions to intervene, and protests on the surrender application for the Old Sparhawk Mill Hydroelectric Project No. 8417. The document published in the Federal Register on December 3, 2018, at 83 FR 62317. Due to the funding lapse at certain federal agencies between December 22, 2018 and January 25, 2019, the Commission is extending the comment period until March 26, 2019.

Dated: February 19, 2019.
Kimberly D. Bose,
Secretary.

[FR Doc. 2019-03275 Filed 2-25-19; 8:45 am]

BILLING CODE 6717-01-P